DEPARTMENT OF TRANSPORTATION

Coast Guard

33 CFR Part 100

[CGD 95-054]

RIN 2115-AF17

Regattas and Marine Parades

AGENCY: Coast Guard, DOT.

ACTION: Final rule and withdrawal of interim rule.

SUMMARY: The Coast Guard withdraws its interim rule on regattas and marine parades, which never went into effect. Instead, it intends to issue new proposals that would better accommodate environmental concerns, while still eliminating overly burdensome requirements for sponsors of marine events. Also, the Coast Guard issues a final rule amending its existing regulation that specifies the minimum time before a marine event takes place for submitting an application to hold the event. This amendment increases the amount of time for the Coast Guard to consider the numerous, additional statutory requirements, enacted since the existing regulation was issued, before it approves an application.

DATES: The interim rule published at 61 FR 33027 on June 26, 1996, is withdrawn as of March 12, 2001. The amendments to 33 CFR part 100 are effective on March 12, 2001.

ADDRESSES: Comments and material received from the public, as well as documents mentioned in this preamble as being available in the docket, are part of docket CGD 95-054. They are available for inspection or copying at the Office of the Executive Secretary, Marine Safety Council (G-LRA/3406), U.S. Coast Guard Headquarters, 2100 Second Street SW., room 3406, Washington, DC 20593-0001, between 9:30 a.m. and 2 p.m., Monday through Friday, except Federal holidays. The telephone number is 202-267-1477.

You may obtain a copy of this document by telephone at the U.S. Coast Guard Infoline, 1-800-368-5647; by e-mail at uscginfoline@tiscom.uscg.mil; or by Internet at the Web Site for the Office of Boating Safety, http://www.uscgboating.org.

FOR FURTHER INFORMATION CONTACT: If you have questions on this rule, contact Carlton Perry, Project Manager, Office of Boating Safety, by telephone at 202-267-0979 or by e-mail at cperry@comdt.uscg.mil.

SUPPLEMENTARY INFORMATION:

Regulatory History

On December 26, 1995, we published an advance notice of proposed rulemaking (ANPRM) entitled “Regattas and Marine Parades; Permit Application Procedures” in the Federal Register (60 FR 66773). On April 17, 1996, we published a notice of proposed rulemaking (NPRM) entitled “Regattas and Marine Parades” (61 FR 16732). On June 26, 1996, we published an interim rule with notice of availability of environmental assessment entitled “Regattas and Marine Parades” (61 FR 33027). As a result of a series of notices of delay of effective date, the interim rule never went into effect (61 FR 60027, November 26, 1996; 62 FR 67570, December 29, 1997; 63 FR 71753, December 30, 1998; and 64 FR 70184, December 16, 1999). No public hearing was requested, and none was held.

Withdrawal of Interim Rule

The original purpose for this rulemaking was to explore ways to better carry out our statutory responsibility, under 33 U.S.C. 1233, to promote safety of life on navigable waters during regattas and marine parades. In keeping with the President's Regulatory Reinvention Initiative, we reviewed the regulations on marine events in 33 CFR part 100 and determined that the regulations needed revising to eliminate overly burdensome, unnecessary, and obsolete requirements. To that end, this rulemaking intended to eliminate the need for Coast Guard marine event permits, unless a permit was necessary to advance the statutory purpose of promoting safety of life during marine events. The rule would have established various categories of marine events: those that did not require either a written notice to the Coast Guard or a Coast Guard permit because they clearly posed no extra or unusual hazard to the safety of life; those that required written notice to the Coast Guard because they may have posed such a hazard; and those that required an individual Coast Guard permit because they clearly posed such a hazard. For a detailed discussion of this project and our statutory authority, see the ANPRM, NPRM, and interim rule mentioned under “Regulatory History” in this preamble.

During the course of this project, we consulted with, and continue to consult with, other governmental agencies on the likely environmental effects of our proposals. As a result of the concerns of environmental agencies on the possible adverse effects of our proposals on the environment and, in particular, on endangered species, we have decided to withdraw this interim rule and close CGD 95-054. In its place, we plan to develop new alternatives through a new rulemaking project. In this new project, we will again address our original concerns of eliminating overly burdensome requirements on the sponsors of events, while being responsive to environmental issues.

Final Rule Amending the Lead Time for Applications for Marine Events

This final rule amends 33 CFR 100.15 entitled “Submission of application.” Before this amendment, paragraph (c) of § 100.15 stated that an application to hold a proposed marine event must be submitted to the Coast Guard no less than 30 days before the start of the event. In § 100.17(c) of the interim rule, the 30-day period was increased to 135 days before the event or, if all of the following apply, to 60 days before the event:

(1) If the sponsor submitted an application for the event in the year immediately preceding.

(2) If the particulars of the event, such as its nature, location, and scheduling, are essentially the same as for the previous event.

(3) If the Coast Guard did not require a permit for the previous event.

In the final rule, we revised the 60-day criteria to reflect the current regulations on issuing permits for recurring events. To avoid potential burdens of an abrupt transition to the new regulation in paragraph (c), new paragraphs (d) and (e) of § 100.15 provide special lead times for events to be held within 196 days after the effective date of the final rule.

Discussion of Comments to § 100.17(c) in the Interim Rule on the Lead Time for Applications for Marine Events

1. One comment to the interim rule stated that an extension of the existing 30-day deadline for submitting applications to 135 days is unnecessarily burdensome.

Since 1963, when the existing regulations were issued, the number of factors that are required to be considered in the permitting process have greatly increased. Additional statutes enacted since 1963 must now be considered before a permit is issued. For example, compliance with the National Environmental Policy Act (NEPA) (42 U.S.C. 4321-4347) alone can delay approval of a permit for 120 days or more. Furthermore, while marine events have become larger, faster, and more frequent and have a greater impact on navigation, the Coast Guard's resources for processing permits have been reduced. The 135-day period is based on the minimum time needed for the Coast Guard to review the application and verify its contents; to consult with other agencies and allow time for their responses; to determine whether a special local regulation under 33 CFR 100.35 is needed and, if so, issue that regulation; to determine if changes to the application are needed; and to prepare the required environmental documentation.

For annually recurring events that meet certain specified criteria, the interim rule in § 100.17(c) and this final rule in § 100.15(c) provide for submitting an application a minimum of 60 days before the event.

2. One comment asked us to clarify when an event would be subject to the new rules. For example, what if the sponsor has met the 30-day minimum for requesting a permit under paragraph (c) of previous § 100.15 and, in the meantime, this final rule goes into effect, with its 135-day requirement in new § 100.15(c)? The new requirement could force the sponsor to cancel the event.

We agree that a transition period is needed. See new paragraphs (d) and (e) of § 100.15 in this final rule.

Regulatory Evaluation

This final rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979).

We expect the economic impact of the final rule to be so minimal that a full Regulatory Evaluation under paragraph 10e of the regulatory policies and procedures of DOT is unnecessary. The final rule increases the minimum amount of time necessary for the Coast Guard to process marine-event applications. This means that some sponsors of events may have to plan their events earlier. Though this increase may impose a burden on those sponsors, it is necessary to meet new statutory considerations affecting approval of applications and to allow agencies that must be consulted to have a reasonable amount of time to respond.

Small Entities

Under the Regulatory Flexibility Act (5 U.S.C. 601-612), we considered whether this final rule would have a significant economic impact on a substantial number of small entities. The term “small entities” comprises small businesses, not-for-profit organizations that are independently owned and operated and are not dominant in their fields, and governmental jurisdictions with populations of less than 50,000.

As discussed in the “Regulatory Evaluation” section of this preamble, the need for this rule is due to the increased review time needed to comply with statutes enacted after the previous regulation was issued, as well as to the increasing number of events held. The final rule applies to all marine-event sponsors, both large and small. Some sponsors may now find the need to plan events farther into the future than they have in the past, though having to plan farther into the future does not necessarily create an economic impact. However, to keep the lead-time to the minimum necessary, the final rule provides for a shorter lead-time for events that repeat annually and that meet the criteria listed in § 100.15(c). Therefore, the Coast Guard certifies under 5 U.S.C. 605(b) that this final rule will not have a significant economic impact on a substantial number of small entities.

Assistance for Small Entities

Under section 213(a) of the Small Business Regulatory Enforcement Fairness Act of 1996 (Public Law 104-121), we offered, under the NPRM and interim rule, to assist small entities in understanding this rulemaking so that they could better evaluate its effects on them and participate in the rulemaking.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This final rule calls for no new collection of information under the Paperwork Reduction Act of 1995 (44 U.S.C. 3501-3520). This rule does not affect the content of, or burden of collecting information for, marine event application.

Federalism

We have analyzed this rule under Executive Order 13132, Federalism, and have determined that it does not have implications for federalism under that Order.

Unfunded Mandates Reform Act

The Unfunded Mandates Reform Act of 1995 (2 U.S.C. 1531-1538) requires Federal agencies to assess the effects of their regulatory actions not specifically required by law. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This final rule meets applicable standards in sections 3(a) and 3(b)(2) of Executive Order 12988, Civil Justice Reform, to minimize litigation, eliminate ambiguity, and reduce burden.

Protection of Children

We have analyzed this final rule under Executive Order 13045, Protection of Children from Environmental Health Risks and Safety Risks. This rule is not an economically significant rule and does not concern an environmental risk to health or risk to safety that may disproportionately affect children.

Environment

We have considered the environmental impact of this final rule and concluded that, under figure 2-1, paragraph (34)(a), of Commandant Instruction M16475.lC, this rule is categorically excluded from further environmental documentation. This rule is administrative in nature and concerns the timeframe for submitting an application. It will have no direct affect on the environment. A “Categorical Exclusion Determination” is available in the docket where indicated under ADDRESSES.

List of Subjects in 33 CFR Part 100

Marine safety, Navigation (water), Reporting and recordkeeping requirements, Waterways.

For the reasons discussed in the preamble, the Coast Guard amends 33 CFR part 100 as follows:

PART 100—MARINE EVENTS

1. Revise the authority citation for part 100 to read as follows:

Authority: 33 U.S.C. 1233; 49 CFR 1.46.

2. The interim rule published at 61 FR 33027 on June 26, 1996, is withdrawn.

3. In § 100.15, revise paragraph (c), redesignate paragraph (d) as paragraph (f), and add new paragraphs (d) and (e) to read as follows:

§ 100.15 Submission of application.

* * * * *

(c) Except as in paragraphs (d) and (e) of this section, the application must be submitted no less than 135 days before the start of the proposed event. However, if all of the following criteria are met, the application must be submitted no less than 60 days before the start of the proposed event:

(1) The sponsor submitted an application for the event in the year immediately preceding.

(2) The nature, location, scheduling, and other relevant information contained in the previous application are essentially the same.

(3) The Coast Guard received no objection to the previous application.

(4) The Coast Guard did not promulgate special local regulations for the previous event.

(5) The Coast Guard approved the previous event.

(d) For marine events to be held on or before July 10, 2001, the application must be submitted no less than 30 days before the start of the proposed event.

(e) For marine events to be held after July 10, 2001 but before September 24, 2001, the application must be submitted no less than 60 days before the start of the proposed event.

* * * * *

Dated: December 29, 2000.
Terry M. Cross,
Rear Admiral, U.S. Coast Guard, Assistant Commandant for Operations.

[FR Doc. 01-546 Filed 1-8-01; 8:45 am]

BILLING CODE 4910-15-U